DEPARTMENT OF LABOR

Employment and Training Administration

[TA-W-64,072]

Bowling Green Metalforming, Bowling Green, KY; Notice of Termination of Investigation

Pursuant to Section 221 of the Trade Act of 1974, as amended, an investigation was initiated on September 18, 2008 in response to a petition filed by a company official on behalf of workers at Bowling Green Metalforming, Bowling Green, Kentucky. The workers at the subject facility produce automotive stampings.

The petitioner has requested that the petition be withdrawn. Consequently, the investigation has been terminated.

Signed in Washington, DC, this 5th day of December 2008.
Elliott S. Kushner,
Certifying Officer, Division of Trade Adjustment Assistance.

[FR Doc. E8-29615 Filed 12-12-08; 8:45 am]

BILLING CODE 4510-FN-P